DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The Sentinel Centers Network (SCN) Core Data Set—New

HRSA's Bureau of Primary Health Care (BPHC) established the Sentinel Centers Network (SCN) to assist in addressing critical policy issues. Thirty-eight BPHC supported health centers and NHSC sites have been awarded funds through sub-contracts in this first year of operation. These health centers were identified as having adequate infrastructure and commitment through the competitive contract process to serve as “laboratories” that will generate data for timely policy analyses and conducting projects on topics that have immediate policy impact.

A protocol for core data collection and retrieval, timelines, expectations, and evaluation of the Network sites is currently underway. It is expected that sites will submit these core data, or have these data extracted from their existing information systems periodically. These core data may include provider level, encounter level, and user level information regarding, for example, data on service delivery, utilization, payer sources, demographics, clinical diagnoses and outcomes, staffing, and costs. Since all data obtained from the participant sites will be extracted/compiled from existing information systems, and not through primary data collection, burden will therefore be minimized. In addition, each participant site will receive technical assistance both on site and via telephone to reduce burden as much as possible.

Estimated burden hours:

Type of respondent | Number of respondents | Responses per respondent | Total responses | Hours per responses | Total burden hours
Sites | 38 | 4 | 152 | 8 | 1,216

Written comments and recommendations concerning the proposed information collection should be sent within 30 days of this notice to: John Morrall, Human Resources and Housing Branch, Office of Management and Budget, New Executive Office Building, Room 10235, Washington, DC 20503.

Dated: September 12, 2002.
Jane M. Harrison,
Director, Division of Policy Review and Coordination.

[FR Doc. 02-23848 Filed 9-19-02; 8:45 am]

BILLING CODE 4165-15-P